DEPARTMENT OF THE INTERIOR

National Park Service

60 Day Notice of Intention To Request Clearance of Collection of Information; Opportunity for Public Comment

AGENCY: National Park Service, Department of the Interior, Fort Sumter National Monument.

ACTION: Notice and request for comments.

SUMMARY: National Park Service (NPS) Fort Sumter tour boat service currently departs from two destinations in Charleston, SC. With the construction of a new NPS facility at Liberty Square, all tour boat operations to Fort Sumter will be consolidated to a single point of departure at the new location. The proposed survey would be used in conducting a study to evaluate the feasibility of establishing a water taxi system in Charleston Harbor. The water taxi system would chiefly act as a feeder network for tourists and local residents desiring access to the new NPS Ft. Sumter tour boat facility at Liberty Square, located adjacent to the South Carolina Aquarium. Several locations, situated primarily along the Cooper River, are being considered as potential landing sites. Creation of a waterborne network of this type would potentially reduce on-site parking demands, serve to mitigate related congestion on surrounding streets and have a variety of other quality of life and environmental benefits. The initial phase of the system is expected to largely focus on establishing a waterborne connection between Liberty Square and Patriots Point Naval Museum. The information gathered in the surveys will be used to support planning efforts in developing feasible water taxi alternatives, evaluating system viability and determining potential user demands. The data collected in the surveys will aid in identifying the specific market feasibility and possible operational plans for the proposed water taxi service. The data will also be used to forecast potential demand for travel between NPS sites and other visitor destinations, as well as land-based public transit connections. Information will be gathered on potential visitor linkages (multiple destinations) between NPS sites and other popular tourist destinations to understanding how they might affect the use of water taxi service to reach the NPS Fort Sumter Tour Boat facility at Liberty Square. Information collected in this survey will not be used for any other purpose than this study:

| Estimated numbers of: Responses | Estimated numbers of: Burden hours
Charleston Harbor Water Taxi Study:
Intercept Surveys—Residents | 800 | 133.33
Intercept Surveys—Non-Residents | 200 | 33.33
Total | 1,000 | 166.66

Under provisions of the Paperwork Reduction Act of 1995 and 5 CFR Part 1320, Reporting and Record Keeping Requirements, the National Park Service (NPS) is soliciting comments on: (a) Whether the collection of information is necessary for such a reliable and valid market analyses and to support the proper performance of the functions of the GGNRA in evaluating the best alternative operations in the interest of the government and the general public, including whether the information will have practical utility; (b) the accuracy of the NPS estimate of the burden of the collection of information, including the validity of the methodology and assumptions used; (c) the quality, utility, and clarity of the information to be collected; and (d) how to minimize the burden of the collection of information on those who are to respond, while maintaining an unbiased sample, including the use of appropriate automated, electronic, mechanical, or other forms of information technology.

DATES: Public comments will be accepted on or before March 26, 2001.

Send Comments to: Mr. John N. Tucker, Superintendent, Fort Sumter Group Parks, National Park Service, 1214 Middle Street, Sullivan's Island, SC 29482.

FOR FURTHER INFORMATION CONTACT: Mr. John N. Tucker at Tel: (843) 727-4740 ext. 14, Fax: (843) 883-3910 or e-mail john_tucker@nps.gov

SUPPLEMENTARY INFORMATION: Title: Charleston Harbor Water Taxi Study.

Bureau Form Number: None.

OMB Number: To be requested.

Expiration Date of Approval: To be requested.

Type of Request: Request for new clearance.

Description of Need: The combination of different visitor sites around Charleston Harbor, their role as significant attractions, and the higher level of traffic congestion is unique and makes it difficult to apply data collected for other transportation systems at other parks to this particular study area. However, other public agencies and private enterprises that operate waterborne shuttle services are being contracted. Preliminary results from this search indicate that little research or data collection has been conducted to understand travel behavior related to alternate transportation services for visitor and tourist travel. Also, because of the uniqueness of each alternative access system, in terms of site-specific attractions, and opportunities/constraints associated with alternative access services, existing data generally would not be applicable to the particular conditions present in the Charleston Harbor area.

Only individuals would be interviewed as part of the intercept surveys. Collection of this data will ensure that the NPS has data necessary to plan, evaluate and implement alternative transportation options that meet the needs of current and potential visitors to NPS sites and other attractions surrounding the Charleston Harbor area.

Automated Data Collection: At the present time, there is no automated way to gather this information, since the on-site interviewing process involves asking visitors to identify characteristics, use patterns, expectations, preferences and perceptions that are relevant to a study of alternative access strategies and services. Computerized responses could not be controlled for basis in the same manner as can intercept surveys.

Description of respondents: Intercept interviews will be conducted with a random sample of individuals who visit sites within the Charleston Harbor area that represent potential visitors for Fort Sumter via the new NPS Visitor Center and Fort Sumter Tour Boat Facility at Liberty Square. These sites include the South Carolina Aquarium, adjacent to the NPS Visitor Center at Liberty Square, which is currently under construction, as well as four non-NPS sites including the Charleston Visitor Center, Charleston City Market, Charleston Waterfront Park, and Patriots Point Naval Museum, across the Harbor in Mt. Pleasant.

Estimated number of respondents: 1,000.

Estimated average number of responses: Each respondent will respond only one time, so the number of respondents will be the same as the number of respondents.

Estimated average burden hours per responses: Approx. 10 minutes.

Frequency of Response: 1 time per respondent.

Estimated annual reporting burden: 166.66 hours.

Leonard E. Stowe,
Acting Information Collection Clearance Officer, WASO Administrative Program Center, National Park Service.

[FR Doc. 01-1877 Filed 1-22-01; 8:45 am]

BILLING CODE 4310-70-M